LIBRARY OF CONGRESS

Copyright Office

37 CFR Parts 201

[Docket No. RM 2005-11A]

Notice of Public Hearings: Exemption to Prohibition on Circumvention of Copyright Protection Systems for Access Control Technologies

AGENCY: Copyright Office, Library of Congress.

ACTION: Notice of Public Hearings.

SUMMARY: The Copyright Office of the Library of Congress will be holding public hearings on the possible exemptions to the prohibition against circumvention of technological measures that control access to copyrighted works. In accordance with the Copyright Act, as amended by the Digital Millennium Copyright Act, the Office is conducting its triennial rulemaking proceeding to determine whether there are particular “classes of works” as to which users are, or are likely to be, adversely affected in their ability to make noninfringing uses if they are prohibited from circumventing such technological measures.

DATES: Public hearings will be held in Palo Alto, California on Thursday, March 23, 2006, and Friday, March 24, 2006. Public hearings will also be held in Washington, DC on Wednesday, March 29, 2006, Friday, March 31, 2006, Monday, April 3, 2006, and Tuesday, April 4, 2006, beginning at 9:30 a.m. Requests to testify must be received by 5 p.m. E.S.T. on Friday March 10, 2006. See SUPPLEMENTARY INFORMATION for additional information on other requirements.

ADDRESSES: The Palo Alto hearings will be held in the Moot Court Room (Room 80) of the Stanford Law School, Crown Quadrangle, Palo Alto, CA. The Washington, DC round of public hearings will be held in the Mumford, Room, LM-649, of the James Madison Building of the Library of Congress, 101 Independence Ave, SE., Washington, DC. See SUPPLEMENTARY INFORMATION for additional address information and other requirements.

FOR FURTHER INFORMATION CONTACT: Rob Kasunic, Principal Legal Advisor, Office of the General Counsel, Copyright GC/I&R, PO Box 70400, Washington, DC 20024-0400. Telephone (202) 707-8380; fax (202) 707-8366. Requests to testify may be submitted through the request form available at http://www.copyright.gov/1201/index.html.

SUPPLEMENTARY INFORMATION: On October 3, 2005, the Copyright Office published a Notice of Inquiry seeking comments in connection with a rulemaking pursuant to section 1201(a)(1) of the Copyright Act, 17 U.S.C. 1201(a)(1), which provides that the Librarian of Congress may exempt certain classes of works from the prohibition against circumventing a technological measure that controls access to a copyrighted work. 70 FR 57526 (October 3, 2005). For a more complete statement of the background and purpose of the rulemaking, please see the full record of the previous rulemaking proceedings available on the Copyright Office's Web site at: http://www.copyright.gov/1201/.

The 74 initial written comments proposing classes of works to be exempted and the 35 reply comments have been posted on the Office's Web site; see http://www.copyright.gov/1201/.

The Office will be conducting public hearings in Palo Alto, California and Washington, DC to hear testimony relating to the proposed exemptions in this rulemaking. Interested parties are invited to submit requests to testify at these hearings. The dates for the hearings in Palo Alto, CA are March 23 and 24. The dates for the Washington, DC hearings are March 29, March 31, April 3, and April 4, 2006. Depending on the number of requests to testify received by the Copyright Office, it may not be necessary to conduct hearings on all of the available days. In addition, the hearings will be organized by subject matter; and while the Copyright Office will attempt to accommodate preferences for particular dates, such accommodations may not be possible.

Requirements for Persons Desiring To Testify

A request to testify must be submitted to the Copyright Office. All requests to testify must clearly identify:

• The name of the person desiring to testify,

• The organization or organizations represented, if any,

• Contact information (address, telephone, and e-mail),

• The class of work to which your testimony is responsive (if you wish to testify on more than one proposed class of work, please state your order of preference),

• A brief summary of your proposed testimony,

• A description of any audiovisual material or demonstrative evidence, if any, that you intend to present,

• The location of the hearing at which you wish to testify (Washington, DC or Palo Alto, CA).

• Preferences as to dates on which you which to testify. Note: Because the agenda will be organized based on subject matter, we cannot guarantee that we can accommodate requests to testify on particular dates.

Depending on the number and nature of the requests to testify, it is possible that the Office will not be able to accommodate all requests to testify.

All persons who submit a timely request to testify will receive confirmation by email or telephone. The Copyright Office will notify all witnesses of the date and expected time of their appearance, and the time allocated for their testimony.

Addresses for Requests To Testify

Requests to testify must be submitted via the Copyright Office's website form located at http://www.copyright.gov/1201/index.html and must be received by 5:00 E.S.T. on March 10, 2006. Persons who are unable to send requests via the Web site should contact Rob Kasunic, Principal Legal Advisor, Office of the General Counsel at (202) 707-8380 to make alternative arrangements for submission of their requests to testify.

Form and Limits on Testimony at Public Hearings

There will be time limits on the testimony allowed for persons testifying that will be established after receiving all requests to testify. In order to avoid duplicative and cumulative testimony and to ensure that all relevant issues and viewpoints are addressed, the Office encourages parties with similar interests to select common representatives to testify on behalf of a particular position. A timely request to testify does not guarantee an opportunity to testify at these hearings.

The Copyright Office stresses that factual arguments are at least as important as legal arguments and encourages persons who wish to testify to provide demonstrative evidence to supplement their testimony. While testimony from attorneys who can articulate legal arguments in support of or in opposition to a proposed exempted class of works is useful, testimony from witnesses who can explain and demonstrate pertinent facts is encouraged.

An LCD projector and screen will be available in the hearing rooms. Other electronic or audiovisual equipment necessary for a presentation should be brought by the person testifying. Persons intending to bring such equipment into the Library of Congress, e.g., laptops, slide projectors, etc., are encouraged to give the Office advance notice and to arrive early in order to clear security screening by the Library police.

The Office intends to organize individual sessions of the hearings around particular or related classes of works proposed for exemption. If a request to testify involves more than one proposed exemption or related exemption, please specify, in order of preference, the proposed exemptions on which you would prefer to testify.

Following receipt of the requests to testify, the Copyright Office will prepare an agenda of the hearings which will be posted on the Copyright Office Web site at: http://www.copyright.gov/1201/ and sent to all persons who have submitted requests to testify. The Copyright Office will also provide additional information on directions and parking for all persons testifying at the Palo Alto, CA round of hearings. To facilitate this process, it is essential that all of the required information listed above be included in a request to testify.

Dated: February 16, 2006.
David O. Carson,
Copyright General Counsel.

[FR Doc. E6-2571 Filed 2-22-06; 8:45 am]

BILLING CODE 1410-30-S